INTERNATIONAL TRADE COMMISSION

[Investigations Nos. 731-TA-376, 563, and 564 (Review)]

Stainless Steel Butt-Weld Pipe Fittings From Japan, Korea, and Taiwan

Determinations

On the basis of the record ¹ developed in the subject five-year reviews, the United States International Trade Commission determines, pursuant to section 751(c) of the Tariff Act of 1930 (19 U.S.C. 1675(c)), that revocation of the antidumping duty orders on stainless steel butt-weld pipe fittings from Japan, Korea, and Taiwan would be likely to lead to continuation or recurrence of material injury to an industry in the United States within a reasonably foreseeable time.²

¹ The record is defined in sec. 207.2(f) of the Commission's Rules of Practice and Procedure (19 CFR 207.2(f)).

² Commissioner Askey dissenting with respect to stainless steel butt-weld pipe fittings from Korea.

Background

The Commission instituted these reviews on July 1, 1999 (64 FR 35691, July 1, 1999) and determined on October 1, 1999 that it would conduct expedited reviews (64 FR 55960, October 15, 1999). The Commission transmitted its determinations in these reviews to the Secretary of Commerce on February 22, 2000. The views of the Commission are contained in USITC Publication 3280 (February 2000), entitled Stainless Steel Butt-Weld Pipe Fittings from Japan, Korea, and Taiwan: Investigations Nos. 731-TA-376, 563, and 564 (Review).

Issued: February 15, 2000.
By order of the Commission.
Donna R. Koehnke,
Secretary.

[FR Doc. 00-4358 Filed 2-23-00; 8:45 am]

BILLING CODE 7020-02-P